DEPARTMENT OF THE INTERIOR

Minerals Management Service

30 CFR Parts 250 and 254

Oil and Gas and Sulphur Operations in the Outer Continental Shelf—Incident Reporting; Notice of Meeting

AGENCY: Minerals Management Service (MMS), Interior.

ACTION: Notice of meeting.

SUMMARY: This notice announces that MMS and the U.S. Coast Guard (USCG) will hold a public meeting to discuss the Notice of Proposed Rulemaking (NPR) for Incident Reporting Requirements that was published on July 8, 2003 (68 FR 40585).

DATES: The meeting will be held on September 3, 2003, from 1 p.m. to approximately 4 p.m. at the location listed in the ADDRESSES section.

ADDRESSES: The meeting will be held at the MMS Gulf of Mexico Regional office (Room 111), 1201 Elmwood Park Blvd., New Orleans, LA 70123. Please submit pre-meeting written questions by mail or fax to Melinda Mayes at:

(1) Mailing address: Minerals Management Service, 381 Elden Street, MS 4022, Herndon, VA 20170.

(2) Fax number: (703) 787-1555.

FOR FURTHER INFORMATION CONTACT: Melinda Mayes, MMS, Engineering and Operations Division, at (703) 787-1063 or Staci Atkins, MMS, Engineering and Operations Division, at (703) 787-1620.

SUPPLEMENTARY INFORMATION: The purpose of the meeting is to explain the Proposed Rule for Incident Reporting Requirements and allow participants to ask questions. On July 8, 2003, MMS published a proposed rule for Oil and Gas and Sulphur Operations in the Outer Continental Shelf—Incident Reporting (68 FR 40585). In developing this NPR, MMS worked with the USCG with the goal of making the reporting requirements between the two agencies more consistent. The MMS and USCG are also developing an electronic reporting system to help eliminate duplicative reporting between the two agencies.

The agenda for the meeting on September 3, 2003, is as follows:

• General welcome and overview from MMS and the USCG;

• Presentation of the rulemaking history and relationship of the MMS NPR to USCG requirements;

• Presentation of the MMS NPR;

• Question and answer session; and

• Concluding remarks.

The MMS and USCG encourage you to submit questions in advance and attend the meeting. We will consider your questions in preparing our presentations so we can focus on key topics. Questions must reach the MMS office by close of business on August 22, 2003. You may also pose questions during the question and answer session at the meeting.

We remind meeting participants that any comments you make at the meeting that you wish for us to consider during the rulemaking must be submitted in writing before the comment period closes.

There is no fee to attend the meeting and registration is not required. To obtain information on facilities or services for individuals with disabilities or to request that we provide special assistance at the meeting, please contact Melinda Mayes as soon as possible.

Dated: July 25, 2003.
E.P. Danenberger,
Chief, Engineering and Operations Division.

[FR Doc. 03-19458 Filed 7-30-03; 8:45 am]

BILLING CODE 4310-MR-P